DEPARTMENT OF THE INTERIOR

Office of the Secretary

[PPWOIRADA1;PRCRFRFR6.XZ0000;PR.RIRAD1801.00.1; OMB Control Number 1093-0006]

Agency Information Collection Activities; Submission to the Office of Management and Budget for Review and Approval; Natural and Cultural Resources Agencies Customer Relationship Management

AGENCY: Office of the Secretary, Interior.

ACTION: Notice of information collection; request for comment.

SUMMARY: In accordance with the Paperwork Reduction Act of 1995, we, the Office of the Secretary, Department of the Interior are proposing to renew an information collection with revisions.

DATES: Interested persons are invited to submit comments on or before September 27, 2018.

ADDRESSES: Send written comments on this information collection request (ICR) to the Office of Management and Budget's Desk Officer for the Department of the Interior by email at OIRA_Submission@omb.eop.gov; or via facsimile to (202) 395-5806. Please provide a copy of your comments to Marta Kelly, National Park Service, U.S. Department of the Interior, 1849 C Street NW, MS 2266-MIB, Washington, DC 20240, fax 202-354-1815, or by email to Marta_Kelly@nps.gov. Please reference OMB Control Number 1093-0006 in the subject line of your comments.

FOR FURTHER INFORMATION CONTACT: To request additional information about this ICR, contact Marta Kelly, National Park Service, U.S. Department of the Interior, 1849 C Street NW, MS 2266-MIB, Washington, DC 20240, fax 202-354-2825, or by email to Marta_Kelly@nps.gov. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We published a Federal Register notice with a 60-day public comment period soliciting comments on this collection of information on May 11, 2018 (83 FR 22097). We received one public comment in response to this notice. This public comment represented the consolidate feedback for 130 Service and Conservation Crops. Here are specific comments and our responses to the comments:

Comment: Is the collection necessary to the proper functions of the Office of the Secretary, Department of the Interior? While information on our partnerships is important, we believe data around project accomplishments, outcomes, funding, and number of Corpsmembers engaged etc. is already covered through reporting to one of the DOI units, states, regions, or national DOI bureau offices and could be compiled through existing information sources. If this is the level of information envisioned through the Partnerships Module, we encourage DOI to examine internal processes and existing information collection that could be streamlined or revised to provide this data. We hope other Federal land management agencies will adopt this same approach of a unified data collection system by utilizing this new system DOI is developing, and also examine existing internal data sources before requiring new information collection and reporting which may be duplicative.

Answer: This is a valid point and DOI does establish with this collection a single system of record as mandatory. Furthermore, modernization of portal technology will allow for importing, exporting and sharing by internal sources before validation and use by external partners. Additionally, DOI will offer this portal as a shared service to other federal agencies so end user/respondents input will be not duplicative and redundant for same purposes.

Comment: With respect to the Stewards Engagement Portal, we support an electronic and uniform system to collect information to determine eligibility for NCE. Presently, different DOI bureaus have different rules around qualifying for PLC NCE, making it confusing for our Corps and even more so for our Corpsmembers. The ability to upload information once, toward the end of a term of service, would be important to minimize the time burden.

As to the desire to collect from PLC Corpsmembers “agency work for, partner organization, project dates, where the work was completed, and total hours worked on the specific project,” it would be useful to have a profile for each partner organization and Corpsmember on the new system that can be matched and sorted. NCE qualification can be organized that way as well as different Corpsmember contributions to different partner organizations. For example, Corpsmembers may serve with different Corps, on different projects, and with different project partners during their terms of service.

As to Corpsmembers providing “qualifying factors and training” when developing a profile, we would urge further clarification and standardization around what those may be, as unclear definitions could hurt recruitment and placement of individuals with the wrong opportunities. In addition, it may be challenging to leave it up to Corpsmembers or the public to determine their qualifying factors, training, and skill sets for certain projects or programs that Corps offer. Our Corps use their own recruiting, training, and screening processes to hire Corpsmembers and meet project partner's goals. Our Corps are liable for meeting the goals of a project agreement and for the safety of Corpsmembers and the public, so we should maintain an ability to screen and train Corpsmembers as necessary.

Answer: DOI youth program managers have met and agreed to standardize the collection for NEC data and opportunities across the bureaus. Additionally, we will provide a template to provide data files for uploading information into the system at the end of service terms. Initially, we will import, and update annually, all partner organization information. We will work with Corps Network to identify best methods to have project information validated and matched to work projects and individuals. We have made a commitment to use the Corps Network for testing imports and process before final launch of on portal.

Comments: (2) Will this information be processed and used in a timely manner?

Collection of information around accomplishments of partner organizations, and hours for NCE, housed electronically in one system will help with timeliness of compilation and utilization of this data. At the same time, if Corps are still required to report to the various DOI units, states, regions, and nationally and report through this new system, it will slow down the process and create an additional burden. Data is only as good as the inputs, so ensuring uniform definitions and categories for collection across DOI, and other federal partners utilizing this system, will be critical and will ease processing and use of data.

Answer: DOI will only have one system of record and all units will be required to use a single system upon deployment of the portal. This system will have a standard data dictionary and common data elements. We will publish a detail user manual for all using the system for ease processing and entering the data.

Comments: (3) Is the estimate of burden accurate?

Given the different features envisioned through the new online portal system it is difficult for us to estimate the hour's burden. If DOI internally utilizes such data, or Corps are able to utilize existing information already provided to various DOI bureaus, the hour's burden would be lower. Additionally, if Corpsmembers are able to enter their information for NCE one time toward the end of their term of service, and Corps themselves had the ability to upload Corpsmember information if necessary, that would be helpful in reducing the burden.

Answer: We will allow Corps with approved accounts or via upload service to enter and update Corpsmember information as necessary. The burden will depend on if members are just opting to enter just information for PLC or want to share their status with other employment programs like an apprenticeship that may require additional data for placement or benefits.

Comments: (4) How might the Office of the Secretary, Department of the Interior enhance the quality, utility, and clarity of the information to be collected?

Again, data is only as good as the inputs, so ensuring uniform definitions and categories for collection across DOI, and other federal partners utilizing this system, will be critical, and will ease processing and use of data. For example, when considering the Partnerships Module in the past, DOI defined “partner hires” based on the number of hours a Corpsmember worked through a partner organization for a DOI bureau. In order to ensure accurate data, definitions like this should be developed with input from partners, be uniform across DOI and projects should be tracked for example by partner organization, legal authority, dollar figure, and project type in order for DOI to accurately collect information. It should not be the burden of partner organizations to track the data though as these are DOI accomplishes these projects with DOI funding. A uniform system for tracking and reporting this information across DOI should streamline this information collection, and/or require a re-examination of existing data sources to be uniform across DOI.

On the Stewards Engagement Portal, one challenge with the utilization of PLC NCE is the inability to represent NCE electronically or search for NCE-approved jobs on USA Jobs. Developing the ability for Corpsmembers who qualify for NCE to have a PLC NCE designation on their profile on USA Jobs would be helpful, and adding a search term for job postings, or some kind of PLC NCE signifier or certification would also be helpful. An additional consideration is that the federal project supervisor must certify the hours, and sign off on the certificate for NCE. An electronic system where project sponsors are able to certify the hours, and sign a digital certificate would eliminate paperwork and delays.

Answer: Department of the Interior will establish a user guide with standard definitions so data can be accurate and uniform. While we can standardize the DOI definitions, we are only able to encourage non-DOI partners to consider a common data dictionary at this time. We agree with the Corps Network that recruitment is challenging and by expanding the portal to include all skill and special employment programs we can provide better exposure of opportunities to prospective candidates. We can also link existing employment resources and website to resources page on the portal. We are committed to working closely with Corps Network on recruitment strategies and to explore how to expand the use of veterans.

Comments: (5) How might the Office of the Secretary, Department of the Interior minimize the burden of this collection on the respondents, including using information technology?

Again, we believe that a large amount of data is already available through the annual reporting our Corps provide to individual DOI units, states, regions, or the national office and through internal DOI bureau data sets and project information systems. It may warrant an examination of those existing sources and their reporting mechanisms to see how they can be fed in to this new online portal. After an examination of existing data sources and collection requirements by DOI, if there needs to be a new collection of information, we encourage there to be some thoughtfulness around data compatibility, and for batch upload ability along with an examination of what information is truly necessary to demonstrate the impact and outcomes.

Corps also report outcomes and performance measures to the Corporation for National and Community Service, which administers the AmeriCorps and National Civilian Community Corps (NCCC) programs. Often, this is duplicative data since the AmeriCorps and NCCC members are working on federal public lands. Having these systems be compatible would minimize the reporting burden and improve efficiency.

Answer: We agree that data exist in many systems so will continue to consolidate and reduce the burden by working closely with Corps Network to identify these data calls and eliminate them where possible or to incorporate the data via import and export features into one system of record.

We are again soliciting comments on the proposed ICR that is described below. We are especially interested in public comment addressing the following issues: (1) Is the collection necessary to the proper functions of the Office of the Secretary (OS); (2) will this information be processed and used in a timely manner; (3) is the estimate of burden accurate; (4) how might the OS enhance the quality, utility, and clarity of the information to be collected; and (5) how might the OS minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The information collection under OMB Control number 1093-0006 received approval from OMB on August 04, 2015. This approval will expire on August 31, 2018, and we are now requesting comments as part of the standard renew and update process. Previously, we titled this collection as “Volunteer Partnership Management.” We are changing the title with this revision to be “Natural and Cultural Resource Agencies Customer Relationship Management” to more accurately reflect the overall purpose of the information collection.

Federal natural and cultural resources management agencies are authorized to manage volunteers, youth programs, and partnerships to recruit, train, and accept the services of citizens to aid in disaster response, interpretive functions, visitor services, conservation measures and development, research and development, recreation, and or other activities as allowed by an agency's policy and regulations. Providing, collecting and exchanging written and electronic information is required from potential and selected program participants of all ages so they can access opportunities and benefits provided by agencies guidelines. Those under the age of 18 years must have written consent from a parent or guardian.

The customer relationship management web based portals are the agencies response to meeting citizens' requests for improved digital customer services to access and apply for engagement opportunities. Secure under one security platform parameter, the portals provide for prospective and current program participants to establish an account for electronic submission of program applications and to obtain status of applications, enrollments, benefits, and requirements. Additionally, citizens have the option of using self-service features to report hours, apply for opportunities, or register for program benefits such as America the Beautiful Pass, Public Land Corps register or Service Learning verification. This collection includes the modernization of electronic process so citizens maintain portal accounts with single program application that can be reused to apply for all interested opportunities verse requiring program participants to electronically complete the application anew for each opportunity they wish to be considered. This specifically minimizes the burden on this collection on the respondents. While electronic records provides a means to streamline data collection and allow citizen access to track benefits and control the sharing of their data, the participating agencies may also provide an accessible paper version of the volunteer forms.

Participating Agencies are:

Department of Agriculture: U.S. Forest Service, and Natural Resources Conservation Service;

Department of the Interior: All DOI offices and units including Office of the Secretary, National Park Service, U.S. Fish and Wildlife Service, Bureau of Land Management, Bureau of Reclamation, Bureau of Indian Affairs, Office of Surface Mining Reclamation and Enforcement, and U.S. Geological Survey.

Department of Defense: U.S. Army Corps of Engineers;

Department of Commerce: National Oceanic and Atmospheric Administration—Office of National Marine Sanctuaries.

Forms

OF-301 Volunteer Application: Individuals interested in volunteering may access the individual agency websites, and/or contact agencies to request a Volunteer Application (OF-301) or complete an on-line application submission on volunteer.gov on submission. Applicants provide name, address, telephone number, date of birth, preferred work categories, interests, citizenship status, available dates, preferred location, indication of physical limitations, and lodging preferences. Information collected using this form on Volunteer.gov assists agency volunteer coordinators and other personnel in matching volunteers with agency opportunities appropriate for an applicant's skills and physical condition and availability. A signature of a parent or guardian is mandatory for applicants under 18 years of age.

OF-301A Volunteer Service Agreement: This form is used by participating resource agencies to document agreements for volunteer services between a Federal agency and individual or group volunteers, including international volunteers. A signature of parent or guardian is mandatory for applicants under 18 years of age. The agreement form will now be available for processing on volunteer.gov for the first time, this on-line this form is generated from the application and position description to minimize impact to respondents. Paper forms and electronic PDF must however be completed for each opportunity.

OF-301B Volunteer Group Sign-up: This form is used by participating resource agencies to document awareness and understanding by individuals in groups about the volunteer activities between a Federal agency and a partner organization with group participants. Signature of parent or guardian is mandatory for applicants under 18 years of age.

Stewards Engagement Portal (this was formally known as the Youth Partnership Tracking Portal): This portal has a self-registration feature that allows program participants from volunteer, youth, and partnerships to register with information that would be used to automate matching stewardship opportunities such as apprenticeships, youth programs, veterans' events, and other special engagement programs. Information required to establish an account is preference for location, name, email, qualifying factors, and training. Once self-registered, the youth and young adult programs participants authorized under the 16 U.S.C. 1722 et. seq., Public Lands Corps (PLC) Act may be required to report additional details for public land corps status such as the agency work for, partner organization, project dates, where the work was completed, and total hours worked on the specific project. This information is used by the system to match the individuals with most applicable opportunities. The steward engagement portal is under redesign and will incorporate a feedback loop for respondents to rate quality of customer service and opportunities.

The Partnerships Module collects information from various partnership and volunteer organizations which are under national agreements to manage services and programs on public lands for citizens and provides an annual summary of their activities.

The Cooperating Association Module collects information from not-for-profit public lands partners under national agreements to manage bookstores and sales items with federal agencies.

This request for comments on the information collection is being published by the Office of the Secretary, Department of the Interior and includes the use of common forms that can be leveraged by other Federal agencies. The burden estimates reflected in this notice is only for the Department of the Interior. Other Federal agencies wishing to use the common forms must submit their own burden estimates and provide notice to the public accordingly.

Title of Collection: Natural and Cultural Resources Agencies Customer Relationship Management.

OMB Control Number: 1093-0006.

Form Number: None.

Type of Review: Revision of a currently approved collection.

Respondents/Affected Public: Potential and selected volunteers; youth program participants, veterans, prospective job applicants, cooperating associations, and partner organizations.

Respondent's Obligation: Required to Obtain or Retain a Benefit.

Frequency of Collection: Typically once per year but could be as frequently as 26 times per year for time and expense reporting.

Total Estimated Annual Nonhour Burden Cost: There are no non-hour cost burdens associated with this information collection.

Requirement | Average number of annual respondents | Average number of responses each | Average number of annual responses | Average completion time per response (mins) | Estimated annual burden hours
Portal Account Management
Create Individual or Group Account:
Individuals | 365,000 | 1 | 365,000 | 1 | 6,083
Volunteer Management Portal
Submit Application:
Individuals | 783,000 | 1 | 783,000 | 10 | 130,500
Time Entry:
Individuals | 4,390 | 5 | 21,950 | 1 | 366
Training and Supporting Information:
Individuals | 6,000 | 4 | 24,000 | 3 | 1,200
Complete a Volunteer Agreement:
Individuals | 14,000 | 5 | 70,000 | 5 | 5,833
Registration for Volunteer Event:
Individuals | 10,000 | 1 | 10,000 | 1 | 167
Customer Service Survey:
Individuals | 1,000 | 5 | 5,000 | 1 | 83
Subtotals | 818,390 |  | 913,950 |  | 138,149
Stewardship Engagement Module
Create Application/Profile:
Private Sector | 18,000 | 1 | 18,000 | 1 | 300
Time Entry:
Private Sector | 7,200 | 3 | 21,600 | 1 | 360
Manage Partner:
Private Sector | 659 | 1 | 659 | 1 | 11
Manage Project:
Private Sector | 45,000 | 2 | 90,000 | 1 | 1,500
Manage Youth Participants:
Private Sector | 3,000 | 1 | 3,000 | 3 | 150
Customer Service Survey:
Private Sector | 600 | 5 | 3,000 | 1 | 50
Subtotals | 74,459 |  | 136,259 |  | 2,371
Partnership and Cooperating Association Module
Annual Updates:
Private Sector | 258 | 1 | 258 | 5 | 22
Customer Service Survey:
Private Sector | 70 | 5 | 350 | 1 | 6
Subtotals | 328 |  | 608 |  | 28
TOTALS | 1,258,177 |  | 1,415,817 |  | 146,631

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2018-18554 Filed 8-27-18; 8:45 am]

BILLING CODE 4334-63-P